NUCLEAR REGULATORY COMMISSION

[Docket No. NRC-2010-0332]

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on November 15, 2010.

1. Type of submission, new, revision, or extension: Extension.

2. The title of the information collection: DOE/NRC Form 740M, “Concise Note” and NUREG/BR-0006, Revision 7, “Instructions for Completing Nuclear Material Transaction Reports, (DOE/NRC Forms 741 and 740M)”.

3. Current OMB approval number: 3150-0057.

4. The form number if applicable: Form 740M.

5. How often the collection is required: DOE/NRC Form 740M is requested as necessary to inform the U.S. or the International Atomic Energy Agency (IAEA) of any qualifying statement or exception to any of the data contained in other reporting forms required under the U.S.—IAEA Safeguards Agreement.

6. Who will be required or asked to report: Persons licensed to possess specified quantities of special nuclear material or source material, and licensees of facilities on the U.S. Eligible Facilities List who have been notified in writing by the NRC that they are subject to 10 CFR Part 75.

7. An estimate of the number of annual responses: 150.

8. The estimated number of annual respondents: 15.

9. An estimate of the total number of hours needed annually to complete the requirement or request: 113.

10. Abstract: Licensees affected by Part 75 and related sections of Parts 40, 50, 70, and 150 are required to submit DOE/NRC Form 740M to inform the U.S. or the IAEA of any qualifying statement or exception to any of the data contained in any of the other reporting forms required under the U.S.—IAEA Safeguards Agreement. The use of Form 740M enables the NRC to collect, retrieve, analyze, and submit the data to IAEA to fulfill its reporting responsibilities.

The public may examine and have copied for a fee publicly available documents, including the final supporting statement, at the NRC's Public Document Room, Room O-1F21, One White Flint North, 11555 Rockville Pike, Rockville, Maryland 20852. OMB clearance requests are available at the NRC worldwide Web site: http://www.nrc.gov/public-involve/doc-comment/omb/index.html. The document will be available on the NRC home page site for 60 days after the signature date of this notice.

Comments and questions should be directed to the OMB reviewer listed below by April 11, 2011. Comments received after this date will be considered if it is practical to do so, but assurance of consideration cannot be given to comments received after this date.

Christine J. Kymn, Desk Officer, Office of Information and Regulatory Affairs (3150-0057), NEOB-10202, Office of Management and Budget, Washington, DC 20503.

Comments can also be e-mailed to Christine.J.Kymn@omb.eop.gov or submitted by telephone at 202-395-4638.

The NRC Clearance Officer is Tremaine Donnell, 301-415-6258.

Dated at Rockville, Maryland, this 3rd day of March 2011.
For the Nuclear Regulatory Commission.
Tremaine Donnell,
NRC Clearance Officer, Office of Information Services.

[FR Doc. 2011-5496 Filed 3-9-11; 8:45 am]

BILLING CODE 7590-01-P